DEPARTMENT OF THE INTERIOR

Bureau of Land Management

DEPARTMENT OF ENERGY

[LLWO300000.L14300000]

Notice of Availability of the Final Programmatic Environmental Impact Statement for Solar Energy Development in Six Southwestern States

AGENCY: Bureau of Land Management, Interior; Department of Energy.

ACTION: Notice of availability.

SUMMARY: The Bureau of Land Management (BLM) and the Department of Energy (DOE) (the Agencies) as joint lead agencies announce the availability of the Final Programmatic Environmental Impact Statement for Solar Energy Development in Six Southwestern States (Final Programmatic EIS) (BLM/DES 11-49, DOE/EIS-0403) and associated Proposed BLM Resource Management Plan (RMP) Amendments.

DATES: BLM planning regulations state that any person who meets the conditions as described in the regulations may protest the BLM's Final Programmatic EIS and Proposed RMP Amendments. A person who meets the conditions and files a protest must file the protest within 30 days of the date that the Environmental Protection Agency publishes its Notice of Availability (NOA) in the Federal Register.

ADDRESSES: Copies of the Final Programmatic EIS and Proposed RMP Amendments have been sent to affected Federal, state, and local government agencies and to other stakeholders. Copies of the Final Programmatic EIS and Proposed RMP Amendments, references, and additional information regarding solar energy development are available at the project Web site: http://solareis.anl.gov. Electronic copies of the Final Programmatic EIS and Proposed RMP Amendments are available through the BLM Web site at http://www.blm.gov. The Final Programmatic EIS is also available on the DOE National Environmental Policy Act (NEPA) Web site at http://energy.gov/nepa.

All protests must be in writing and mailed to one of the following addresses:

Regular Mail

BLM Director (210), Attention: Brenda Williams, P.O. Box 71383, Washington, DC 20024-1383.

Overnight Mail

BLM Director (210), Attention: Brenda Williams, 20 M Street SE., Room 2134LM, Washington, DC 20003.

Publication of a Final EIS Notice of Availability does not trigger a formal public comment period. The Agencies, however, may choose to review any comments submitted following the publication of the Final EIS NOA and use them to inform the Records of Decision. Those individuals wishing to submit comments are asked to do so through the Solar Programmatic EIS project Web site (http://solareis.anl.gov). Individuals should note that the Agencies will consider such comments only to the extent practicable and will not respond to comments individually.

FOR FURTHER INFORMATION CONTACT: Shannon Stewart, Solar Energy Program Lead, BLM Washington Office, by email at shannon_stewart@blm.gov, or by telephone at 202-912-7219, to request CDs or printed copies of the Final Programmatic EIS, or for further information. Requests for information related to DOE's proposed action may be directed to Jane Summerson, DOE Solar Programmatic EIS Document Manager, by email at jane.summerson@ee.doe.gov, or by telephone at 202-287-6188. For general information regarding the DOE NEPA process, contact Carol Borgstrom, Director, Office of NEPA Policy and Compliance, GC-54, U.S. Department of Energy, 1000 Independence Avenue SW., Washington, DC 20585, by telephone at 202-586-4600, leave a message at 1-800-472-2756, or by email at askNEPA@hq.doe.gov. Persons who use a telecommunications device for the deaf (TDD) may call the Federal Information Relay Service (FIRS) at 1-800-877-8339 to contact the above individual during normal business hours. The FIRS is available 24 hours a day, 7 days a week, to leave a message or question with the above individual. You will receive a reply during normal business hours.

SUPPLEMENTARY INFORMATION: Copies of the Final Programmatic EIS and Proposed RMP Amendments are available for public inspection at the following BLM office locations:

• Arizona State Office, One North Central Avenue, Suite 800, Phoenix, Arizona 85004.

• Caliente Field Office, U.S. Highway 93 Building #1, Caliente, Nevada 89008.

• California Desert District, 22835 Calle San Juan De Los Lagos, Moreno Valley, California 92553.

• California State Office, 2800 Cottage Way, Suite W-1623, Sacramento, California 95825.

• Colorado State Office, 2850 Youngfield Street Lakewood, Colorado 80215.

• Cedar City Field Office, 176 East D.L. Sargent Drive Cedar City, Utah 84721.

• El Centro Field Office, 1661 S. 4th Street El Centro, California 92243.

• Lake Havasu Field Office, 2610 Sweetwater Avenue Lake Havasu City, Arizona 86406.

• Las Cruces District Office, 1800 Marquess Street Las Cruces, New Mexico 88005.

• Lower Sonoran Field Office, 21605 N. 7th Avenue Phoenix, Arizona 85027.

• Nevada State Office, 1340 Financial Boulevard Reno, Nevada 89502.

• New Mexico State Office, 301 Dinosaur Trail, Santa Fe, NM 87508

• Palm Springs—South Coast Field Office, 1201 Bird Center Drive Palm Springs, California 92262.

• San Luis Valley Public Lands Center, 1803 West Highway 160, Monte Vista, Colorado 81144.

• Southern Nevada District Office, 4701 North Torrey Pines, Las Vegas, Nevada 89130.

• Tonopah Field Office, 1553 South Main Street Tonopah, Nevada 89049.

• Utah State Office, 440 West 200 South, Suite 500, Salt Lake City, Utah 84101.

On December 17, 2010 (75 FR 78980), the Agencies published a Draft Programmatic EIS for Solar Energy Development in Six Southwestern States (Arizona, California, Colorado, Nevada, New Mexico, and Utah). Public comments were accepted through May 2, 2011. More than 80,500 comments were received. The public, as well as many cooperating agencies, offered suggestions on how the Agencies could increase the utility of the document, strengthen the proposed BLM Solar Energy Program, and increase certainty regarding solar energy development on BLM-administered lands.

On October 28, 2011 (76 FR 66958), the Agencies published a Supplement to the Draft Programmatic EIS for Solar Energy Development in Six Southwestern States. Public comments were accepted through January 27, 2012. More than 131,000 comments were received. The Agencies considered all comments received on both the Draft Programmatic EIS and the Supplement to the Draft Programmatic EIS, and the Final Programmatic EIS has been revised to reflect that consideration.

Through the Final Programmatic EIS, the BLM is evaluating actions that will facilitate utility-scale solar energy development on public lands. Multiple federal orders and mandates establish requirements for the Department of the Interior related to renewable energy development. Through the Final Programmatic EIS, the BLM is considering replacing elements of its existing solar energy policies with a comprehensive Solar Energy Program that would allow the permitting of future solar energy development projects on public lands to proceed in a more efficient, standardized, and environmentally responsible manner.

On the basis of the analysis presented in this Final Programmatic EIS, the BLM anticipates making the following land use planning decisions that will establish the foundation for a comprehensive Solar Energy Program.

• Land use plan amendments that identify exclusion areas for utility-scale solar energy development in the six-state study area;

• Land use plan amendments that identify priority areas for solar energy development that are well suited for utility-scale production of solar energy (i.e., solar energy zones (SEZs));

• Land use plan amendments that identify areas potentially available for utility-scale solar energy development outside of SEZs in the six-state study area; and

• Land use plan amendments that establish required design features (i.e., mitigation requirements) for solar energy development on public lands to ensure the most environmentally responsible development and delivery of solar energy.

In the Final Programmatic EIS, the BLM has identified the solar energy development program alternative (referred to as the “program alternative”) as its preferred alternative. Under the program alternative, the BLM proposes categories of lands to be excluded from utility-scale solar energy development (approximately 79 million acres) and identifies 17 SEZs (about 285,000 acres) where the BLM proposes to prioritize development of utility-scale solar energy development. The program alternative emphasizes and incentivizes development within SEZs and proposes a collaborative process to identify additional SEZs in the future. The program alternative allows for utility-scale solar development in variance areas outside of SEZs (approximately 19 million acres) in accordance with a proposed variance process. The program alternative also establishes authorization policies and procedures for utility-scale solar energy development and design features applicable to all development on BLM-administered lands.

In the Final Programmatic EIS, DOE revised its proposed guidance in response to comments. For example, it added specific recommendations regarding land use avoidance including rangelands and National Historic and Scenic Trails; greater emphasis on water use minimization and conservation techniques; and coordination with local and state entities such as planning commissions and federal agencies such as the U.S. Army Corps of Engineers. DOE also included additional text describing the breadth and variety of the various DOE programs that could potentially fund solar projects and clarifying how DOE might use the proposed guidance.

In the Final Programmatic EIS, DOE has identified its preferred alternative as the proposed action (action alternative) under which DOE would adopt programmatic environmental guidance, which would be used by DOE to further integrate environmental considerations into its analysis and selection of proposed solar projects.

Other Agency Involvement

Cooperating Federal agencies on the Solar Programmatic EIS include the Department of Defense; U.S. Fish and Wildlife Service; National Park Service; Bureau of Reclamation; U.S. Environmental Protection Agency, Region 9; and U.S. Army Corps of Engineers, South Pacific Division. Other cooperating agencies on the Solar PEIS include the Arizona Game and Fish Department; the California Energy Commission and Public Utilities Commission; the Nevada Department of Wildlife, the N-4 Grazing Board, and the Southern Nevada Water Authority; the Utah Public Lands Policy Coordination Office; Clark, Esmeralda, Eureka, Lincoln, and Nye Counties, Nevada; Saguache County, Colorado; and Dona Ana County, New Mexico.

Instructions for filing a protest with the Director of the BLM regarding the Final Programmatic EIS and Proposed RMP Amendments may be found in the “Dear Reader” Letter” of the Final Programmatic EIS for Solar Energy Development in Six Southwestern States and at 43 CFR 1610.5-2. All protests must be in writing and mailed to the appropriate address, as set forth in the ADDRESSES section above. Emailed and faxed protests will not be accepted as valid protests unless the protesting party also provides the original letter by either regular or overnight mail postmarked by the close of the protest period. Under these conditions, the BLM will consider the emailed or faxed protest as an advance copy and it will receive full consideration. If you wish to provide the BLM with such advance notification, please direct emails to bhudgens@blm.gov and faxed protests to the attention of the BLM protest coordinator at 202-245-0028.

Authority: 40 CFR 1506.6 and 1506.10; 43 CFR 1610.2 and 1610.5; and 10 CFR 1021.313.

Timothy Spisak,
Acting Assistant Director, Minerals and Realty Management, Bureau of Land Management.
David Danielson,
Assistant Secretary, Energy Efficiency and Renewable Energy, Department of Energy.

[FR Doc. 2012-18257 Filed 7-24-12; 8:45 am]

BILLING CODE 4310-84-P